DEPARTMENT OF HEALTH AND HUMAN SERVICES

National Institutes of Health

Center for Scientific Review; Amended Notice of Meeting

Notice is hereby given of a change in the meeting of the Medical Imaging Study Section, October 07, 2013, 09:30 a.m. to October 07, 2013, 05:30 p.m., National Institutes of Health, 6701 Rockledge Drive, Bethesda, MD 20892 which, was published in the Federal Register on September 24, 2013, 78 FR 185 Pg. 58547.

The meeting will be held at the Hilton Alexandria Mark Center Hotel, 5000 Seminary Rd., Alexandria, VA 22311. The meeting will start on November 4, 2013 at 7:00 a.m. and end November 4, 2013 at 5:00 p.m. The meeting is closed to the public.

Dated: October 29, 2013.
Melanie J. Gray,
Program Analyst, Office of Federal Advisory Committee Policy.

[FR Doc. 2013-26148 Filed 11-1-13; 8:45 am]

BILLING CODE 4140-01-P